FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the New Hire Information Collection (FR 27; OMB No. 7100-0375).

DATES: The information collection revisions are effective June 9, 2025.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 27.

Final Approval Under OMB Delegated Authority of the Extension for Three Years, With Revision, of the Following Information Collection

Collection title: New Hire Information Collection.

Collection identifier: FR 27.

OMB control number: 7100-0375.

General description of collection: This information collection provides for the electronic collection of certain personnel information from new hires using a secure web-based portal, the New Hire Portal, before the first day of employment of a new hire. As part of the onboarding process for new hires, a Human Resources (HR) professional at the Board identifies the necessary information that must be collected from the new hire, which is dependent upon the type of hire that the person is. The types of hires include Regular Hires, which are hires who are being hired into a non-intern position and not transferring from a non-federal agency, including a Governor or Board officer; Intern Hires, which are hires being hired into an intern position; and Federal Transfers, which are hires who are transferring from another federal agency. Once the HR professional has identified the types of information that will be necessary, the new hire is sent an email asking him or her to provide certain information through the New Hire Portal prior to their official start date.

The New Hire Portal is broken out into different sections and each section corresponds to the hardcopy forms that new employees previously filled out and provided to the Board during or after the first day of New Employee Orientation. The information collection now involves a new hire electronically providing this personnel information and filling out the applicable sections of the New Hire Portal before their first day of orientation. The sections of the portal that each new hire is asked to complete electronically depend upon the type of position that the new hire has been offered at the Board.

Frequency: Event-generated.

Respondents: The FR 27 panel comprises individuals who are new hires to the Board but have not yet become employees.

Total estimated number of respondents: Regular Hire, 235; Intern Hire, 131; Federal Transfer, 39; Governor/Officer, 9; Contingent Worker, 637.

Estimated average hours per response: Regular Hire, 1.78; Intern Hire, 1.71; Federal Transfer, 1.95; Governor/Officer, 1.86; Contingent Worker, 1.5.

Total estimated change in burden: 1,298.

Total estimated annual burden hours: 1,691.

Current actions: On March 11, 2025, the Board published a notice in the Federal Register (90 FR 11738) requesting public comment for 60 days on the extension, with revision, of the FR 27. The Board proposed to revise the FR 27 by changing the collection platform from the New Hire Portal to Workday Onboarding in June 2025, adding two new categories of hires categorized as Officers/Governors and Contingent Workers, restructuring sections into individual tasks, adding new data fields, removing data fields, and relabeling data fields. There will also be a change in the login process, as all respondents, except Contingent Workers, will be required to complete identity proofing and set up a secure account through a separate system, Login.gov, before accessing Workday Onboarding. The Designation of Beneficiary Unpaid Compensation of Deceased Employee form and Executive Death and Dismemberment Benefit for Officers and Governors questionnaire, previously not subject to PRA, will now be collected prior to a hire's first day of employment. The Board will no longer collect information for use on the FEGLI Program Designation of Beneficiary form through the New Hire Information Collection. The Board will also no longer collect information to populate the state tax form prior to the hire's start date, so it will no longer be subject to PRA. The Board will begin collecting Form I-9 (Employment Eligibility Verification) electronically through Workday Onboarding, rather than via a PDF. The comment period for this notice expired on May 12, 2025. The Board received one comment from one individual. The comment expressed support for the extension, with revision, of the FR 27. The Board will adopt the extension, with revision, of the FR 27 as originally proposed.

Board of Governors of the Federal Reserve System, June 2, 2025.
Benjamin W. McDonough,
Deputy Secretary and Ombuds of the Board.

[FR Doc. 2025-10239 Filed 6-4-25; 8:45 am]

BILLING CODE 6210-01-P